PENSION BENEFIT GUARANTY CORPORATION

Proposed Submission of Information Collection for OMB Review; Comment Request; Locating and Paying Participants

AGENCY: Pension Benefit Guaranty Corporation.

ACTION: Notice of Intent to request OMB approval of modifications to information collection.

SUMMARY: The Pension Benefit Guaranty Corporation (“PBGC”) intends to request that the Office of Management and Budget (“OMB”) approve modifications to a collection of information under the Paperwork Reduction Act. The purpose of the information collection is to enable the PBGC to pay benefits to participants and beneficiaries. PBGC intends to add three new forms to the information collection and to modify an approved form.

DATES: Comments should be submitted by August 2, 2010.

ADDRESSES: Comments may be submitted by any of the following methods:

• Federal eRulemaking Portal: http://www.regulations.gov. Follow the Web site instructions for submitting comments.

• E-mail: paperwork.comments@pbgc.gov.

• Fax: 202-326-4224.

• Mail or Hand Delivery: Legislative and Regulatory Department, Pension Benefit Guaranty Corporation, 1200 K Street, NW., Washington, DC 20005-4026.

PBGC will make all comments available on its Web site at http://www.pbgc.gov.

Copies of the collection of information may be obtained without charge by writing to the Disclosure Division of the Office of the General Counsel of PBGC at the above address or by visiting that office or calling 202-326-4040 during normal business hours. (TTY and TDD users may call the Federal relay service toll-free at 1-800-877-8339 and ask to be connected to 202-326-4040.) The regulations relating to this collection of information are available on PBGC's Web site at http://www.pbgc.gov.

FOR FURTHER INFORMATION CONTACT: Jo Amato Burns, Attorney, or Catherine B. Klion, Manager, Regulatory and Policy Division, Legislative and Regulatory Department, Pension Benefit Guaranty Corporation, 1200 K Street, NW., Washington, DC 20005-4026, 202-326-4024. (For TTY and TDD, call 800-877-8339 and ask to be connected to 202-326-4024.)

SUPPLEMENTARY INFORMATION: PBGC intends to request that OMB approve modifications to a collection of information needed to pay participants and beneficiaries who may be entitled to pension benefits under a defined benefit plan that has terminated. The collection consists of information participants and beneficiaries are asked to provide in connection with an application for benefits. In addition, in some instances, as part of a search for participants and beneficiaries who may be entitled to benefits, PBGC requests individuals to provide identifying information that the individual would provide as part of an initial contact with PBGC. All requested information is needed to enable PBGC to determine benefit entitlements and to make appropriate payments. The information collection includes My Pension Benefit Account (My PBA), an application on PBGC's Web site, http://www.pbgc.gov, through which plan participants and beneficiaries may conduct electronic transactions with PBGC, including applying for pension benefits, designating a beneficiary, granting a power of attorney, electing monthly payments, electing to withhold income tax from periodic payments, changing contact information, and applying for electronic direct deposit.

PBGC intends to add three new forms to the information collection. Two of the new forms will be used to ascertain the continuing eligibility of participants who are receiving benefits based on disability. The other new form will be used to determine whether participants are eligible for additional pension service credit under the Uniformed Services Employment and Reemployment Rights Act, which establishes specific rights for reemployed service members in their employee pension benefit plans. (See PBGC's final regulation on USERRA Benefits under Title IV of ERISA, 74 FR 59093 (Nov. 17, 2009).)

PBGC also intends to modify PBGC Form 704 (Request for Earnings Information) to eliminate the need for respondents to provide copies of IRS Form W-2 (Wage and Tax Statement) to confirm their earnings. PBGC expects that the number of respondents that will use the new or modified forms, and the burden associated with those forms, will be very small. Accordingly, PBGC is not changing its burden estimates for this information collection as a result of the modifications.

The existing collection of information under the regulation was approved under OMB control number 1212-0055 (expires August 31, 2011). PBGC intends to request that OMB approve the modifications through the current expiration date. An agency may not conduct or sponsor, and a person is not required to respond to, a collection of information unless it displays a currently valid OMB control number.

PBGC estimates the total annual burden associated with this collection of information is 73,300 hours and $3,100. The burden estimate includes 67,050 hours for participants in plans covered by the PBGC insurance program. The remaining hourly burden is attributable to participants that will be covered by the expanded Missing Participants program under Pension Protection Act of 2006 amendments to ERISA, once final regulations are issued to implement the program. The cost burden for both groups of participants is estimated to be $3,100.

PBGC is soliciting public comments to—

• Evaluate whether the collection of information is necessary for the proper performance of the functions of the agency, including whether the information will have practical utility;

• Evaluate the accuracy of the agency's estimate of the burden of the collection of information, including the validity of the methodology and assumptions used;

• Enhance the quality, utility, and clarity of the information to be collected; and

• Minimize the burden of the collection of information on those who are to respond, including the use of appropriate automated, electronic, mechanical, or other technological collection techniques or other forms of information technology, e.g., permitting electronic submission of responses.

Issued in Washington, DC, this 27th day of May, 2010.
John H. Hanley,
Director, Legislative and Regulatory Department, Pension Benefit Guaranty Corporation.

[FR Doc. 2010-13201 Filed 6-1-10; 8:45 am]

BILLING CODE 7708-01-P